DEPARTMENT OF COMMERCE

National Oceanic and Atmospheric Administration

RIN 0648-XC116

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee and Advisory Panel, in August, 2012, to consider actions affecting New England fisheries in the exclusive economic zone (EEZ). Recommendations from this group will be brought to the full Council for formal consideration and action, if appropriate.

DATES: This meeting will be held on Wednesday, August 8, 2012 at 9 a.m.

ADDRESSES: This meeting will be held at the Courtyard by Marriott, 225 McClellan Highway, East Boston, MA 02128; telephone: (617) 569-5250; fax: (617) 561-0971.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee and Advisory Panel will review the range of alternatives for Amendment 6 prepared by the Plan Development Team. This will be the first of at least two meetings to finalize measures for approval by the Councils to be considered in the Amendment 6 DEIS. As such, this meeting will focus on potential modifications to the current days-at-sea (DAS) management system, including alternatives to enable DAS leasing, and on approaches to integrate monkfish into the sector management program of the Northeast Multispecies Fishery. The Committee will also discuss and provide guidance to the PDT for the next phase of plan development.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: July 17, 2012.
Tracey L. Thompson,
Acting Deputy Director, Office of Sustainable Fisheries, National Marine Fisheries Service.

[FR Doc. 2012-17684 Filed 7-19-12; 8:45 am]

BILLING CODE 3510-22-P